DEPARTMENT OF ENERGY

Federal Energy Regulatory Commission

Combined Notice of Filings #1

July 24, 2009.

Take notice that the Commission received the following electric rate filings:

Docket Numbers: ER97-4281-020; ER00-1259-009; ER02-1572-007; ER02-1571-007; ER00-3718-008.

Applicants: NRG Power Marketing LLC, Louisiana Generating LLC, Bayou Cove Peaking Power LLC, Big Cajun I Peaking Power LLC, NRG Sterlington Power LLC.

Description: NRG Power Marketing LLC et al. submits amended request for classification as Category 1 Sellers in the Central and Southwest Power Pool regions.

Filed Date: 07/22/2009.

Accession Number: 20090723-0027.

Comment Date: 5 p.m. Eastern Time on Wednesday, August 12, 2009.

Docket Numbers: ER01-2233-005.

Applicants: GWF Energy LLC.

Description: GWF Energy LLC Notice of Change in Status.

Filed Date: 07/23/2009.

Accession Number: 20090723-5047.

Comment Date: 5 p.m. Eastern Time on Thursday, August 13, 2009.

Docket Numbers: ER02-1213-011.

Applicants: Mirant Energy Trading, LLC.

Description: Mirant Energy Trading, LLC submits amendment to its 6/30/09 market based tariff revision.

Filed Date: 07/21/2009.

Accession Number: 20090723-0029.

Comment Date: 5 p.m. Eastern Time on Tuesday, August 11, 2009.

Docket Numbers: ER06-857-002.

Applicants: Energy Resource Management Corporation.

Description: Energy Resources Management Corporation submits pursuant to regional schedule set forth in Appendix D-2 of Order No 697-A, a request for Category 1 Seller classification in the Central Power Pool Region.

Filed Date: 07/22/2009.

Accession Number: 20090723-0028.

Comment Date: 5 p.m. Eastern Time on Wednesday, August 12, 2009.

Docket Numbers: ER07-841-005; ER09-629-004; ER07-844-005; ER07-845-005; ER07-846-005; ER99-4160-020; ER07-847-005; ER00-3696-012.

Applicants: Dynegy Arlington Valley, LLC, Dynegy Marketing and Trade, LLC, Dynegy Morro Bay, LLC, Dynegy Moss Landing, LLC, Dynegy Oakland, LLC, Dynegy Power Marketing, Inc., Dynegy South Bay, LLC, Griffith Energy LLC.

Description: Notice of Change in Status and Request to File Out-of-Time of Dynegy Arlington Valley, LLC, et al.

Filed Date: 07/23/2009.

Accession Number: 20090723-5084.

Comment Date: 5 p.m. Eastern Time on Thursday, August 13, 2009.

Docket Numbers: ER08-677-001.

Applicants: Western Kentucky Energy Corp.

Description: Western Kentucky Energy Corp submits revised cancelled tariff sheets specifying the consummation date of the transaction accepted by FERC's 5/9/08 Order.

Filed Date: 07/22/2009.

Accession Number: 20090722-0142.

Comment Date: 5 p.m. Eastern Time on Wednesday, August 12, 2009.

Docket Numbers: ER09-759-003.

Applicants: E. ON U.S. LLC.

Description: Louisville Gas and Electric Company et al. submits Substitute Second Revised Service Agreement 14 to FERC Electric Tariff, Fourth Revised Volume 1.

Filed Date: 07/23/2009.

Accession Number: 20090724-0073.

Comment Date: 5 p.m. Eastern Time on Thursday, July 30, 2009.

Docket Numbers: ER09-1141-002.

Applicants: J.P. Morgan Commodities Canada Corporation.

Description: JP Morgan Commodities Canada Corporation supplements their petition for acceptance of initial tariff, waivers and blanket authority in response to FERC's request.

Filed Date: 07/22/2009.

Accession Number: 20090722-0139.

Comment Date: 5 p.m. Eastern Time on Wednesday, August 12, 2009.

Docket Numbers: ER09-1146-002.

Applicants: Lafarge Midwest, Inc.

Description: Lafarge Midwest Inc. submits Amendment to Application for Market Based Rate Authority sought in ER09-1146.

Filed Date: 07/22/2009.

Accession Number: 20090722-5011.

Comment Date: 5 p.m. Eastern Time on Monday, August 3, 2009.

Docket Numbers: ER09-1480-000.

Applicants: Marble River, LLC.

Description: Petition of Marble River, LLC for order accepting market-based rate tariff for filing and granting waivers and blanket approvals.

Filed Date: 07/23/2009.

Accession Number: 20090723-0172.

Comment Date: 5 p.m. Eastern Time on Thursday, August 13, 2009.

Docket Numbers: ER09-1481-000.

Applicants: Meadow Lake Wind Farm II LLC.

Description: Meadow Lake Wind Farm II LLC submits petition for order accepting market based rate tariff for filing and granting waivers and blank approvals.

Filed Date: 07/23/2009.

Accession Number: 20090723-0173.

Comment Date: 5 p.m. Eastern Time on Thursday, August 13, 2009.

Docket Numbers: ER09-1482-000.

Applicants: Sagebrush Power Partners, LLC.

Description: Petition of Sagebrush Power Partners, LLC for order accepting market-based rate tariff for filing and granting waivers and blanket approvals.

Filed Date: 07/23/2009.

Accession Number: 20090723-0170.

Comment Date: 5 p.m. Eastern Time on Thursday, August 13, 2009.

Docket Numbers: ER09-1483-000.

Applicants: Duquesne Power, LLC.

Description: Duquesne Power, LLC submits notice of succession to inform the Commission that Duquesne Power converted from a limited partnership company to a limited liability company.

Filed Date: 07/22/2009.

Accession Number: 20090722-0138.

Comment Date: 5 p.m. Eastern Time on Wednesday, August 12, 2009.

Docket Numbers: ER09-1484-000.

Applicants: PacifiCorp.

Description: PacifiCorp submits Engineering and Procurement Agreement dated 7/8/09 with Tri-State Generation and Transmission Association designated as Service Agreement 581 under Seventh Revised Volume 11 etc.

Filed Date: 07/22/2009.

Accession Number: 20090723-0085.

Comment Date: 5 p.m. Eastern Time on Wednesday, August 12, 2009.

Docket Numbers: ER09-1485-000.

Applicants: Florida Power & Light Company.

Description: Florida Power & Light Co submits Interconnection Agreement for Qualifying Facilities between FPL and Wheelabrator South Broward Inc.

Filed Date: 07/22/2009.

Accession Number: 20090723-0084.

Comment Date: 5 p.m. Eastern Time on Wednesday, August 12, 2009.

Docket Numbers: ER09-1486-000.

Applicants: Southern California Edison Company.

Description: Southern California Edison Company submits revised sheets to the Large Generator Interconnection Agreement among El Segundo Power II LLC, SCE, and the California Independent System Operator Corporation.

Filed Date: 07/23/2009.

Accession Number: 20090723-0174.

Comment Date: 5 p.m. Eastern Time on Thursday, August 13, 2009.

Docket Numbers: ER09-1487-000.

Applicants: Pacific Gas and Electric Company.

Description: Pacific Gas and Electric Company submits three notices terminating Generator Special Facilities Agreements and Generator Interconnection Agreements with Midway Power, LLC et al.

Filed Date: 07/23/2009.

Accession Number: 20090723-0169.

Comment Date: 5 p.m. Eastern Time on Thursday, August 13, 2009.

Take notice that the Commission received the following electric securities filings:

Docket Numbers: ES09-30-001.

Applicants: Entergy Gulf States Louisiana, LLC.

Description: Supplemental Information of Entergy Gulf States Louisiana, LLC.

Filed Date: 07/23/2009.

Accession Number: 20090723-5097.

Comment Date: 5 p.m. Eastern Time on Monday, August 3, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Deputy Secretary.

[FR Doc. E9-18308 Filed 7-30-09; 8:45 am]

BILLING CODE 6717-01-P